DEPARTMENT OF HEALTH AND HUMAN SERVICES

Substance Abuse and Mental Health Services Administration

Fiscal Year (FY) 2024 Funding Opportunity

AGENCY: Substance Abuse and Mental Health Services Administration, Department of Health and Human Services (HHS).

ACTION: Notice of intent to award a single source cooperative agreement to the Community-Based, Advocacy-Focused, Data-Driven, Coalition-Building Association (CADCA).

SUMMARY: This notice is to inform the public that the Substance Abuse and Mental Health Services Administration (SAMHSA) intends to award up to $675,000 per year for up to five (5) years to the Community-Based, Advocacy-Focused, Data-Driven, Coalition-Building Association (CADCA). The purpose of the award is to leverage existing resources to expand SAMHSA's scope and prevention capacity; provide training and technical assistance to state and community prevention leaders, including members of anti-drug community coalitions from around the country who are committed to addressing the evolving needs of the behavioral health field; and to promote prevention workforce development. The training and workforce development activities supported through this cooperative agreement include SAMHSA's Prevention Day and SAMHSA's participation in the annual National Leadership Forum, the annual Mid-Year Training Institute of CADCA, and developing youth leaders across the three conferences/events listed above.

FOR FURTHER INFORMATION CONTACT: David Lamont Wilson, Public Health Analyst, Substance Abuse and Mental Health Services Administration, 5600 Fishers Lane, Rockville, MD 20857, telephone 240-276-2588; email: david.wilson@samhsa.hhs.gov.

SUPPLEMENTARY INFORMATION:

Funding Opportunity Title: FY 2024 National Anti-Drug Coalitions Training and Workforce Development Cooperative Agreement (Short Title: Coalitions Training Cooperative Agreement), Notice of Funding Opportunity SP-24-003.

Assistance Listing Number: 93.243.

Authority: The Coalitions Training Cooperative Agreement is authorized under sections 509, 516 and 520A of the Public Health Service Act, as amended.

Justification: Eligibility for this funding is limited to CADCA. CADCA is the only national organization that provides training and technical assistance annually through a national leadership conference for thousands of members of community coalitions dedicated to preventing substance use. CADCA is currently the sole organization that plays a major role in helping to strengthen and develop the nation's prevention infrastructure of anti-drug coalitions in support of ongoing activities funded by SAMHSA's priority prevention grant programs. It is the only identified organization that currently meets this experience level to successfully implement this grant and has a national reach to over 5,000 identified anti-drug coalitions across the country. This is not a formal request for application. Funding will only be provided to CADCA based on the receipt of a satisfactory application and associated budget that is approved by a review group.

Dated: March 20, 2024.
Ann Ferrero,
Public Health Analyst.

[FR Doc. 2024-06229 Filed 3-22-24; 8:45 am]

BILLING CODE 4162-20-P